DEPARTMENT OF AGRICULTURE

Animal and Plant Health Inspection Service

9 CFR Part 93

[Docket No. 00-010-1]

Horses From Iceland; Quarantine Requirements

AGENCY: Animal and Plant Health Inspection Service, USDA.

ACTION: Proposed rule.

SUMMARY: We are proposing to amend the regulations regarding the importation of horses to exempt horses imported from Iceland from testing for dourine, glanders, equine piroplasmosis, and equine infectious anemia during the quarantine period. We believe this action is warranted because Iceland has never had a reported case of dourine, glanders, equine piroplasmosis, or equine infectious anemia, and it appears that horses imported from Iceland would pose a negligible risk of introducing those diseases into the United States. This action would relieve certain testing requirements for horses imported from Iceland while continuing to protect against the introduction of communicable diseases of horses into the United States.

DATES: We invite you to comment on this docket. We will consider all comments that we receive by June 18, 2001.

ADDRESSES: Please send four copies of your comment (an original and three copies) to: Docket No. 00-010-1, Regulatory Analysis and Development, PPD, APHIS, Suite 3C03, 4700 River Road, Unit 118, Riverdale, MD 20737-1238. Please state that your comment refers to Docket No. 00-010-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Glen I. Garris, Supervisory Staff Officer, Regionalization Evaluation Services Staff, National Center for Import and Export, VS, APHIS, 4700 River Road Unit 38, Riverdale, MD 20737-1231; (301) 734-4356.

SUPPLEMENTARY INFORMATION:

Background

The regulations in 9 CFR part 93 (referred to below as the regulations) govern the importation into the United States of specified animals and animal products to prevent the introduction into the United States of various animal diseases, including dourine, glanders, equine piroplasmosis, and equine infectious anemia (EIA). Dourine, glanders, equine piroplasmosis, and EIA are crippling equine diseases. Dourine, glanders, and equine piroplasmosis are not known to exist in the United States. EIA does exist in the United States, but the incidence of the disease is very low (in Fiscal Year 2000, only 0.046 percent of domestic horses tested for EIA returned positive results) and official controls are in place to prevent its spread. Specifically, the interstate movement of EIA reactor horses is prohibited unless a reactor horse is being moved to (1) a federally inspected slaughtering facility, (2) a federally approved diagnostic or research facility, or (3) the home farm of the reactor.

Under § 93.308(a) of the regulations, horses intended for importation into the United States from any part of the world must be quarantined upon arrival and tested for certain communicable diseases of horses. Under § 93.308(a)(3), horses may not be released from quarantine until they receive negative results to tests for dourine, glanders, equine piroplasmosis, and EIA and undergo any other tests and procedures that may be required by the Administrator of the Animal and Plant Health Inspection Service (APHIS) to determine their freedom from communicable diseases. Currently, horses from Australia and New Zealand are exempt from testing for dourine and glanders.

The Government of Iceland has requested that the U.S. Department of Agriculture exempt horses imported from Iceland from testing for dourine, glanders, equine piroplasmosis, and EIA during the quarantine period. Iceland has never had a reported case of dourine, glanders, equine piroplasmosis, or EIA.

In response to the Government of Iceland's request, APHIS has prepared a qualitative risk assessment evaluating the status of dourine, glanders, equine piroplasmosis, and EIA in Iceland. The risk assessment is based on documentation provided by Iceland regarding its veterinary infrastructure, animal health monitoring system, trading practices with other regions, and other pertinent information. The risk assessment documents Iceland's freedom from communicable diseases of horses, describes the capabilities of Iceland's veterinary diagnostic laboratory, and evaluates Iceland's natural and regulatory barriers on the movement and importation of animals, among other things. Copies of the risk assessment may be obtained from the person listed under FOR FURTHER INFORMATION CONTACT.

Based on the findings of APHIS' risk assessment, we believe that horses imported from Iceland would pose a negligible risk of introducing dourine, glanders, equine piroplasmosis, and EIA into the United States. Therefore, we are proposing to amend § 93.308(a)(3) of the regulations to exempt horses imported from Iceland from testing for dourine, glanders, equine piroplasmosis, and EIA during the quarantine period. However, horses imported from Iceland would still have to be quarantined and undergo any tests and procedures that may be required by the Administrator to determine their freedom from communicable diseases.

Executive Order 12866 and Regulatory Flexibility Act

This proposed rule has been reviewed under Executive Order 12866. The rule has been determined to be not significant for the purposes of Executive Order 12866 and, therefore, has not been reviewed by the Office of Management and Budget.

This proposed rule would exempt horses imported into the United States from Iceland from the requirement for testing for dourine, glanders, equine piroplasmosis, and EIA during the quarantine period. As explained previously in this document, we believe that there is a negligible risk of horses imported from Iceland introducing dourine, glanders, equine piroplasmosis, and EIA into the United States.

U.S. importers of horses from Iceland would be affected by this rule if it is adopted. These importers would no longer be required to have horses that are imported from Iceland tested for dourine, glanders, equine piroplasmosis, and EIA during the quarantine period. The test for EIA costs $5; the tests for equine piroplasmosis cost $9 for each strain for a total of $18; the test for dourine costs $9; and the test for glanders costs $9. Therefore, importers would save a total of $41 on each horse imported from Iceland. Horses imported from Iceland would still be required to undergo a 3-day quarantine after arrival in the United States and undergo any other tests and procedures that may be required by APHIS to determine their freedom from communicable diseases.

According to the 1997 Census of Agriculture, the United States had a total population of at least 2,427,277 horses in that year. In 1999, the United States exported 78,702 horses valued at $293 million, and imported 30,398 horses valued at $326 million. However, only 166 (less than 1 percent) of those horses were imported from Iceland. The total number of horses imported from Iceland is small due in part to the prices of these horses, which averaged $4,367. All of the horses imported from Iceland in 1999 were nonpurebred horses. As a comparison, nonpurebred horses imported from Canada into the United States had an average value of $1,450 in 1999.

The overall impact of this proposed rule, if adopted, should be small. Importers would save on the importation of horses, but the overall savings would be small. Had this rule been in place in 1999 and applied to the 166 horses imported from Iceland in that year, importers would have saved a total of $6,806.

APHIS does not expect that the number of horses imported from Iceland into the United States would increase significantly as a result of this proposed rule. The cost reduction associated with this proposed rule would be less than 1 percent of the average price of those horses imported from Iceland into the United States in 1999. Therefore, this proposed rule is not expected to have a significant impact on U.S. importers of horses from Iceland, regardless of their size.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we propose to amend 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 would continue to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. In § 93.308, paragraph (a)(3) would be revised to read as follows:

§ 93.308 Quarantine requirements.

(a) * * *

(3) To qualify for release from quarantine, all horses, except horses from Iceland, must test negative to official tests for dourine, glanders, equine piroplasmosis, and equine infectious anemia.¹⁴ However, horses imported from Australia and New Zealand are exempt from testing for dourine and glanders. In addition, all horses must undergo any other tests, inspections, disinfections, and precautionary treatments that may be required by the Administrator to determine their freedom from communicable diseases.

* * * * *

¹⁴ Because the official tests for dourine and glanders are performed only at the National Veterinary Services Laboratories in Ames, IA, the protocols for those tests have not been published and are, therefore, not available; however, copies of “Protocol for the Complement-Fixation Test for Equine Piroplasmosis” and “Protocol for the Immuno-Diffusion (Coggins) Test for Equine Infectious Anemia” may be obtained from the Animal and Plant Health Inspection Service, Veterinary Services, National Center for Import-Export, 4700 River Road Unit 38, Riverdale, MD 20737-1231.

Done in Washington, DC, this 12th day of April 2001.
Bobby R. Acord,
Acting Administrator, Animal and Plant Health Inspection Service.

[FR Doc. 01-9625 Filed 4-17-01; 8:45 am]

BILLING CODE 3410-34-P